DEPARTMENT OF EDUCATION

34 CFR Chapter II

Final Waiver and Extension of the Project Periods for the Equity Assistance Centers Grant Program

AGENCY: Office of Elementary and Secondary Education (OESE), Department of Education.

ACTION: Final waiver and extension of project periods.

SUMMARY: The Secretary waives the requirements in the Education Department General Administrative Regulations that generally prohibit project periods exceeding five years and project period extensions involving the obligation of additional Federal funds. The waiver and extension enable four projects under Assistance Listing Number (ALN) 84.004D to receive funding for an additional period, not to exceed September 30, 2022.

DATES: The waiver and extension of the project periods are effective July 16, 2021.

FOR FURTHER INFORMATION CONTACT: Ed Vitelli, U.S. Department of Education, 400 Maryland Avenue SW, Room 3E106, Washington, DC 20202. Telephone: 202-453-6203. Email: Edward.Vitelli@ed.gov.

If you use a telecommunications device for the deaf (TDD) or a text telephone (TTY), call the Federal Relay Service (FRS), toll free, at 1-800-877-8339.

SUPPLEMENTARY INFORMATION:

Background

On July 18, 2016, the Department of Education (Department) published in the Federal Register (81 FR 46820) a notice inviting applications for four projects for fiscal year (FY) 2016 under the Equity Assistance Centers (EAC) program, authorized under title IV of the Civil Rights Act of 1964, 42 U.S.C. 2000c-2000c-2, 2000c-5.

The purpose of the EAC projects is to provide technical assistance (including training) at the request of school boards and other responsible governmental agencies in the preparation, adoption, and implementation of plans for the desegregation of public schools, and in the development of effective methods of coping with special educational problems occasioned by desegregation. Desegregation assistance, per 34 CFR 270.4, may include, among other activities: (1) Dissemination of information regarding effective methods of coping with special educational problems occasioned by desegregation; (2) assistance and advice in coping with these problems; and (3) training designed to improve the ability of teachers, supervisors, counselors, parents, community members, community organizations, and other elementary or secondary school personnel to deal effectively with special educational problems occasioned by desegregation. All four EAC projects provide technical assistance (including training) in all four of the desegregation assistance areas: Race, sex, national origin, and religion. A table listing the FY 2016 EAC projects follows.

FY 2016 awards under ALN 84.004D | Project information
S004D160012 | Mid-Atlantic Equity Consortium, Bethesda, MD, Project: Center for Education Equity.
S004D160005 | Intercultural Development Research Association, San Antonio, TX, Project: IDRA Equity Assistance Center South.
S004D160011 | Indiana University, Indianapolis, IN, Project: Midwest and Plains Equity Assistance Center.
S004D160004 | Metropolitan State University of Denver, Denver, CO, Project: Western Educational Equity Assistance Center (WEEAC).

The EACs' project periods started on October 1, 2016 and will end on September 30, 2021.

On January 13, 2021, the Department published in the Federal Register (86 FR 2653) a notice inviting applications for an FY 2021 EAC competition (FY 2021 NIA).

However, as the effects of the COVID-19 pandemic unfolded and as learning recovery and school reentry efforts intensified, the Department sought to ensure the continuity of services provided by the FY 2016 EAC projects to vulnerable populations, schools, and school districts across the country. The Department also sought to ensure that the next EAC grant competition is, to the extent statutorily permitted, aligned with the Biden Administration's policy directives, including, for example, the Executive orders and memorandum included in the table below.

Title of policy directive | Date signed by President Biden
Executive Order 13985: Advancing Racial Equity and Support for Underserved Communities Through the Federal Government | January 20, 2021.
Executive Order 13988: Preventing and Combating Discrimination on the Basis of Gender Identity or Sexual Orientation | January 20, 2021.
Memorandum: Condemning and Combating Racism, Xenophobia, and Intolerance Against Asian Americans and Pacific Islanders in the United States | January 26, 2021.
Executive Order 14012: Restoring Faith in Our Legal Immigration Systems and Strengthening Integration and Inclusion Efforts for New Americans | February 2, 2021.

To ensure the continuity of services, and to allow the Department the opportunity to consider how best to align the EAC program with these Executive orders, to the extent statutorily permitted, the Department published on March 4, 2021 in the Federal Register (86 FR 12664) a notice withdrawing the FY 2021 NIA and cancelling the FY 2021 EAC competition. On March 25, 2021, the Department published in the Federal Register (86 FR 15829) a notice of proposed waiver and extension, in which it proposed to waive the requirements in the Education Department General Administrative Regulations that generally prohibit project periods exceeding five years and project period extensions involving the obligation of additional Federal funds. The proposed waiver and extension would enable the four FY 2016 EAC projects to receive funding for one additional period, not to exceed September 30, 2022.

Public Comment: In response to our invitation of public comment in the notice of proposed waiver and extension, one party submitted a responsive comment. An analysis of the comment follows.

Comment: One commenter stated that three of the four FY 2016 EAC projects should not receive a waiver and extension because they have not demonstrated transparency and results related to their work in the EAC program. With respect to one of these projects, the commenter cited transactions that it contended constituted conflicts of interest or created the appearance of fiscal impropriety.

Discussion: The Department encourages the commenter to visit the Department's EAC performance web page, located at https://oese.ed.gov/offices/office-of-formula-grants/program-and-grantee-support-services/training-and-advisory-services-equity-assistance-centers/performance-training-and-advisory-services-equity-assistance-centers/, to find current performance data for the four FY 2016 EAC projects. In accordance with the applicable requirements for continuation funding in 34 CFR 75.253, the Department monitored and reviewed the performance of the FY 2016 EAC projects, which, included, where appropriate, examining allegations of potential conflicts of interest and fiscal impropriety, and determined that all FY 2016 EAC projects demonstrated that they made substantial progress in achieving the goals and objectives of their grants, and in meeting their performance measures and targets within the scope of their approved projects. The Department also notes that all FY 2016 EAC projects have made their most recent single audits publicly available, in accordance with Federal grant regulations. Accordingly, the Department has concluded that continuation of the projects is in the best interest of the Federal Government.

Changes: None.

Final Waivers and Extensions

The Department believes it is in the best interest of the public to extend the current EAC project periods for one year. Correspondingly, the Secretary waives the requirements in 34 CFR 75.250, which prohibit project periods exceeding five years, as well as the requirements in 34 CFR 75.261(a) and (c)(2), which permit the extension of a project period only if the extension does not involve the obligation of additional Federal funds. The waiver will permit the Department to issue a FY 2021 continuation award to each of the four currently funded EAC projects, as estimated in the table below.

Project information | Estimated amount
Mid-Atlantic Equity Consortium, Project: Center for Education Equity | $1,640,562
Intercultural Development Research Association, Project: IDRA Equity Assistance Center South | 1,641,567
Indiana University, Project: Midwest and Plains Equity Assistance Center | 1,607,310
Metropolitan State University of Denver, Project: Western Educational Equity Assistance Center (WEEAC) | 1,642,170

Please note that the Department is not bound by the estimates in this table.

Any activities carried out under these continuation awards must be consistent with the scope and objectives of the grantees' applications as approved in the FY 2016 competition. The requirements for continuation awards are set forth in 34 CFR 75.253.

Regulatory Flexibility Act Certification

The Secretary certifies that the waiver and extension of the project period would not have a significant economic impact on a substantial number of small entities. The only entities that would be affected by the waiver and extension of the project period are the current grantees. The Secretary certifies that the waiver and extension would not have a significant economic impact on these entities, because the extension of an existing project period imposes minimal compliance costs, and the activities required to support the additional year of funding would not impose additional regulatory burdens or require unnecessary Federal supervision.

Paperwork Reduction Act of 1995

This notice of final waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs Delegated the Authority to Perform the Functions and Duties of the Assistant Secretary, Office of Elementary and Secondary Education.

[FR Doc. 2021-15162 Filed 7-15-21; 8:45 am]

BILLING CODE 4000-01-P